DEPARTMENT OF STATE

[Public Notice 5517]

Receipt of Application for a Permit for Pipeline Facilities To Be Constructed and Maintained on the Borders of the United States

AGENCY: Department of State.

The Department of State has received an application from TransCanada Keystone Pipeline, LP (“Keystone”) for a Presidential permit, pursuant to Executive Order 11423 of August 16, 1968, as amended by Executive Order 12847 of May 17, 1993, and Executive Order 13284 of January 23, 2003 to construct, connect, operate, and maintain the Keystone Pipeline Project at the U.S.-Canadian border at Cavalier County, North Dakota, for the purpose of transporting Canadian crude oil production from the Western Canadian Sedimentary Basin (“WCSB”) to existing terminals in Missouri, Illinois, and potentially, Oklahoma.

TransCanada Keystone Pipeline, LP, is a limited liability company, organized under the laws of the State of Delaware. Keystone is a wholly-owned subsidiary of TransCanada Oil Pipelines Inc., a Delaware Corporation, with its principal office located at 450 1st Street, SW., Calgary, Alberta, Canada, T2P 5H1. The proposed new pipeline would consist in the U.S. of 1,018 miles of 30-inch diameter pipeline and 55 miles of 24-inch diameter pipeline (“Keystone Mainline”) from the U.S.-Canadian border at Cavalier County, North Dakota, to Patoka, Illinois. If the extension to Cushing, Oklahoma (“Cushing Extension”) is constructed, it will consist of an additional 291 miles of 30-inch pipeline for a total of 1365 miles of pipeline. In Canada, the project would involve the sale to Keystone of an existing 530 mile, 34-inch diameter natural gas transmission pipeline currently owned by TransCanada Limited and conversion of that line to crude oil service. In addition, Keystone will construct 230 miles of pipeline from Hardisty to the converted line and an additional 62 miles of pipeline from the converted line to the U.S. border.

As required by E.O. 13337, the Department of State is circulating this application to concerned Federal agencies for comment.

DATES: Interested parties are invited to submit, in duplicate, comments relative to this proposal on or before September 18, 2006 to Elizabeth Orlando, Office of Environmental Policy, Department of State, Washington, DC 20520. The application and related documents that are part of the record to be considered by the Department of State in connection with this application are available for inspection in the Office of Environmental Policy during normal business hours.

FOR FURTHER INFORMATION CONTACT: Elizabeth Orlando, Office of Environmental Policy, Department of State, Washington, DC 20520, telephone 202-647-4284, facsimile 202-647-1052, E-mail orlandoea2@state.gov.

Dated: August 14, 2006.
John Thompson,
Acting Director, Office of Environmental Policy, U.S. Department of State.

[FR Doc. E6-13626 Filed 8-17-06; 8:45 am]

BILLING CODE 4710-07-P